NUCLEAR REGULATORY COMMISSION

[Docket No. NRC-2014-0214]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on October 9, 2014.

1. Type of submission, new, revision, or extension: Extension.

2. The title of the information collection: NRC Form 396, “Certification of Medical Examination by Facility Licensee.”

3. Current OMB approval number: 3150-0024.

4. The form number if applicable: NRC Form 396.

5. How often the collection is required: Upon application for an initial or upgrade license; every 6 years for the renewal of an operator or senior operator license, and notices of disability that occur during licensed tenure.

6. Who will be required or asked to report: Facility licensees who are tasked with certifying the medical fitness of applicants and operator licensees.

7. An estimate of the number of annual responses: 2,131.

8. The estimated number of annual respondents: 131.

9. An estimate of the total number of hours needed annually to complete the requirement or request: 1,968 hours (1,668 Reporting Hours and 300 Recordkeeping Hours).

10. Abstract: The NRC Form 396 is used to transmit information to the NRC regarding the medical condition of applicants for initial operator licenses or renewal of operator licenses and for the maintenance of medical records for all licensed operators. The information is used to determine whether the physical condition and general health of applicants for operator licenses and licensed operators are such that the applicant/operator would not be expected to cause operational errors endangering public health and safety.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by February 25, 2015. Comments received after this date will be considered if it is practical to do so, but assurance of consideration cannot be given to comments received after this date.

Vlad Dorjets, Desk Officer, Office of Information and Regulatory Affairs (3150-0024), NEOB-10202, Office of Management and Budget, Washington, DC 20503.

Comments can also be emailed to Vladik_Dorjets@omb.eop.gov or submitted by telephone at 202-395-7315.

The NRC Clearance Officer is Tremaine Donnell, telephone: 301-415-6258.

Dated at Rockville, Maryland, this 20th day of January, 2015.
For the Nuclear Regulatory Commission.
Tremaine Donnell,
NRC Clearance Officer, Office of Information Services.

[FR Doc. 2015-01222 Filed 1-23-15; 8:45 am]

BILLING CODE 7590-01-P